DEPARTMENT OF COMMERCE

National Oceanic and Atmospheric Administration

[I.D. 083104H]

Pacific Fishery Management Council; Public Meeting

AGENCY: National Marine Fisheries Service (NMFS), National Oceanic and Atmospheric Administration (NOAA), Commerce.

ACTION: Notice of public meeting.

SUMMARY: The Pacific Fishery Management Council's (Council) Ad Hoc Groundfish Trawl Individual Quota Independent Experts Panel (Experts Panel) will hold a working meeting which is open to the public.

DATES: The Experts Panel working meeting will begin Wednesday, September 22, 2004 at 8:30 a.m. and may go into the evening if necessary to complete business for the day. The meeting will reconvene the next day at 8:30 a.m. and continue until business for the day is completed.

ADDRESSES: The meeting will be held at the Pacific Fishery Management Council, 7700 NE Ambassador Place, Suite 200, West Conference Room, Portland, OR 97220-1384; telephone: 503-820-2280.

FOR FURTHER INFORMATION CONTACT: Mr. Jim Seger, Staff Officer (Economist); telephone: 503-820-2280.

SUPPLEMENTARY INFORMATION: The purpose of the Experts Panel meeting is to review the scoping information document and comments received during the recently completed National Environmental Policy Act public scoping period, in order to determine whether there are significant options and impacts that have not yet been identified which, in the Experts Panel's view, should be considered by the Council.

Although non-emergency issues not contained in the Experts Panel meeting agenda may come before the group for discussion, those issues may not be the subject of formal action during these meetings. Experts Panel action will be restricted to those issues specifically listed in this notice and to any issues arising after publication of this notice requiring emergency action under Section 305(c) of the Magnuson-Stevens Fishery Conservation and Management Act, provided the public has been notified of the group's intent to take final action to address the emergency.

Special Accommodations

The meeting is physically accessible to people with disabilities. Requests for sign language interpretation or other auxiliary aids should be directed to Ms. Carolyn Porter at (503) 820-2280 at least 5 days prior to the meeting date.

Dated: September 1, 2004.
Alan D. Risenhoover,
Acting Director, Office of Sustainable Fisheries, National Marine Fisheries Service.

[FR Doc. E4-2073 Filed 9-3-04; 8:45 am]

BILLING CODE 3510-22-S